DEPARTMENT OF COMMERCE

International Trade Administration

[A-469-815]

Carbon Steel Flanges From Spain: Final Results of Antidumping Duty Administrative Review; 2023-2024

AGENCY: Enforcement and Compliance, International Trade Administration, Department of Commerce.

SUMMARY: The U.S. Department of Commerce (Commerce) determines that carbon steel flanges from Spain were sold in the United States at prices below normal value during the period of review (POR) is June 1, 2023, through May 31, 2024.

DATES: Applicable February 23, 2026.

FOR FURTHER INFORMATION CONTACT: George McMahon, AD/CVD Operations, Office VI, Enforcement and Compliance, International Trade Administration, U.S. Department of Commerce, 1401 Constitution Avenue NW, Washington, DC 20230; (202) 482-1167.

SUPPLEMENTARY INFORMATION:

Background

On August 22, 2025, Commerce published the Preliminary Results of this administrative review in the Federal Register and invited comments from interested parties.¹ Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Accordingly, the current deadline for the final results of this review is now February 26, 2026.

¹ See Carbon Steel Flanges from Spain: Preliminary Results of Antidumping Duty Administrative Review and Rescission of Review in Part; 2023-2024, 90 FR 41059 (August 22, 2025) (Preliminary Results), and accompanying Preliminary Decision Memorandum (PDM).

² See Memorandum, “Deadlines Affected by the Shutdown of the Federal Government,” dated November 14, 2025.

³ See Memorandum, “Tolling of all Case Deadlines,” dated November 24, 2025.

We received no comments from interested parties on the Preliminary Results, and we made no changes from the Preliminary Results. Accordingly, no decision memorandum accompanies this notice and the Preliminary Results are hereby adopted as these final results. Commerce conducted this administrative review in accordance with section 751(a)(1)(B) of the Tariff Act of 1930, as amended (the Act).

Scope of the Order ⁴

⁴ See Finished Carbon Steel Flanges from Spain: Antidumping Duty Order, 82 FR 27229 (June 14, 2017) (Order).

The product covered by this Order is finished carbon steel flanges from Spain. For a complete description of the scope of the Order, see the Preliminary Results.⁵

⁵ See Preliminary Results PDM at 2.

Final Results of Review

We determine that the following estimated weighted-average dumping margin exists for the period June 1, 2023, through May 31, 2024:

Producer/exporter | Weighted- average dumping margin (percent)
ULMA Forja, S.Coop | 0.00

Disclosure

Normally, Commerce discloses to interested parties the calculations of the final results of an administrative review within five days of a public announcement or, if there is no public announcement, within five days of the date of publication of the notice of final results in the Federal Register, in accordance with 19 CFR 351.224(b). However, because we have made no changes to the Preliminary Results, there are no calculations to disclose.

Assessment Rates

Pursuant to section 751(a)(2)(C) of the Act, and 19 CFR 351.212(b)(1), Commerce has determined in these final results of this review, and U.S. Customs and Border Protection (CBP) shall assess, antidumping duties on all appropriate entries of subject merchandise during the POR. Pursuant to 19 CFR 351.212(b)(1), we calculated importer-specific ad valorem duty assessment rates on the basis of the ratio of the total amount of dumping calculated for examined sales to each importer to the total entered value of those sales. Where an importer-specific assessment rate is de minimis within the meaning of 19 CFR 351.106(c)(1), we will instruct CBP to liquidate the appropriate entries without regard to antidumping duties. In accordance with Commerce's “automatic assessment” practice, for entries of subject merchandise that entered the United States during the POR that were produced by ULMA for which it did not know its merchandise was destined for the United States, Commerce will instruct CBP to liquidate unreviewed entries at the all-others rate (i.e., 18.81 percent),⁶ if there is no rate for the intermediate company(ies) involved in the transaction.⁷

⁶ See Order, 82 FR 27230.

⁷ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of this notice in the Federal Register, as provided by section 751(a)(2)(C) of the Act: (1) the cash deposit rate for ULMA will be zero, the rate established in the final results of this review; (2) for previously reviewed or investigated companies not participating in this review, the cash deposit rate will continue to be the company-specific rate published for the most recently completed segment of this proceeding in which the producer or exporter participated; (3) if the exporter is not a firm covered in this review, a prior review, or the original investigation but the producer is, the cash deposit rate will be the rate established for the most recently completed segment of this proceeding for the producer of the subject merchandise; and (4) the cash deposit rate for all other producers or exporters will continue to be the all-others rate established in the less-than-fair-value investigation (i.e., 18.81 percent).⁸ These cash deposit requirements, when imposed, shall remain in effect until further notice.

⁸ See Order, 82 FR at 27229.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

These final results are being issued and published in accordance with sections 751(a)(1) and 777(i)(1) of the Act, and 19 CFR 351.221(b)(5).

Dated: February 13, 2026.
Christopher Abbott,
Deputy Assistant Secretary for Policy and Negotiations, performing the non-exclusive functions and duties of the Assistant Secretary for Enforcement and Compliance.

[FR Doc. 2026-03482 Filed 2-20-26; 8:45 am]

BILLING CODE 3510-DS-P